SMALL BUSINESS ADMINISTRATION

[License No. 02-72-0624]

NJTC Venture Fund SBIC, L.P.; Notice Seeking Exemption Under Section 312 of the Small Business Investment Act, Conflicts of Interest

Notice is hereby given that NJTC Venture Fund SBIC, L.P., 1001 Briggs Road, Suite 280, Mount Laurel, NJ 08054, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). NJTC Venture Fund SBIC, L.P. proposes to provide equity/debt security financing to Innovation Engineering, Inc. The financing is contemplated for working capital and general corporate purposes.

The financing is brought within the purview of § 107.730(a)(1) of the Regulations because Mr. Greg Olsen and GHO Ventures, both Associates of NJTC Venture Fund SBIC, L.P., own more than ten percent of Innovation Engineering, Inc.

Notice is hereby given that any interested person may submit written comments on the transaction to the Associate Administrator for Investment, U.S. Small Business Administration, 409 Third Street, SW., Washington, DC 20416.

March 17, 2006.
Jaime Guzmán-Fournier,
Associate Administrator for Investment.

This document was received at the Office of the Federal Register on July 6, 2006.

[FR Doc. E6-10876 Filed 7-10-06; 8:45 am]

BILLING CODE 8025-01-P